DEPARTMENT OF AGRICULTURE

Forest Service

Information Collection; Request for Comment; National Visitor Use Monitoring

AGENCY: Forest Service, USDA.

ACTION: Notice.

SUMMARY: In accordance with the Paperwork Reduction Act of 1995, the Forest Service is seeking comments from all interested individuals and organizations on the revision of a currently approved information collection, National Visitor Use Monitoring.

DATES: Comments must be received in writing on or before October 10, 2006 to be assured of consideration. Comments received after that date will be considered to the extent practicable.

ADDRESSES: Comments concerning this notice should be addressed to Dr. Donald B.K. English, Recreation and Heritage Resources, Mailstop 1125, Forest Service, USDA, 1400 Independence Ave., SW., Washington, DC 20250.

Comments also may be submitted via facsimile to (202) 205-1145 or by E-mail to: denglish@fs.fed.us.

The public may inspect comments received at Room 4 Central, Yates Building, Recreation and Heritage Resources Staff, 1400 Independence Ave., SW., Washington, DC 20250 during normal business hours. Visitors are encouraged to call ahead to (202) 205-9595 to facilitate entry to the building.

FOR FURTHER INFORMATION CONTACT: Donald B.K. English, Recreation and Heritage Resources staff, at (202) 205-9595. Individuals who use TDD may call the Federal Relay Service (FRS) at 1-800-877-8339, 24 hours a day, every day of the year, including holidays.

SUPPLEMENTARY INFORMATION: Title: National Visitor Use Monitoring.

OMB Number: 0596-0110.

Expiration Date of Approval: January 31, 2007.

Type of Request: Revision of a currently approved collection.

Abstract: The Government Performance and Results Act of 1993 requires that Federal agencies establish measurable goals and monitor their success at meeting those goals. Two of the items the Forest Service must measure are: (1) The number of visits that occur on the national forest lands for recreation and other purposes, and (2) the views and satisfaction levels of recreational visitors to National Forest System lands about the services, facilities, and settings. The agency receives requests for this kind of information from a variety of organizations, including Congressional staffs, newspapers, magazines, and recreational trade organizations.

The data from this collection provides vital information for strategic planning efforts, decisions regarding allocation of resources, and revisions of land and resource management plans for national forests. It provides managers with reliable estimates of the number of recreational visitors to a national forest, activities of those visitors (including outdoor physical activities), customer satisfaction, and visitor values. The knowledge gained from this effort helps identify recreational markets as well as the economic impact visitors have on an area. The information collected is also used by the Office of Management and Budget as part of the Program Analysis Reporting Tool measures for the Forest Service recreation program. For the Forest Service, the collection is designed for a five-year cycle of coverage across all national forests. Conducting the collection less frequently puts information updates out of cycle with forest planning and other data preparation activities.

To conform to the Southern Nevada Public Land Management Act (SNPLMA), the Bureau of Land Management, and Fish and Wildlife Service (all United States Department of Interior (USDI) agencies) will be utilizing this collection to obtain credible and mutually comparable estimates of recreational use on lands they administer in Clarke County, Nevada. This collection helps ensure a timely response to SNPLMA requirements.

At recreation sites or access points, agency personnel or contractors will conduct on-site interviews of visitors as they complete their visit. Interviewers will ask about the purpose and length of the visit; the trip origin; activities; annual visitation rates; trip-related spending patterns; use of recreation facilities; satisfaction with agency services and facilities; and the composition of the visiting party. Primary analysis of the information for the Forest Service and partnering agencies will be performed by Forest Service staff in the Washington Office and by scientists in one or more of the agency's research stations.

Estimate of Annual Burden: 9 minutes (average).

Type of Respondents: Visitors to lands managed by the USDA—Forest Service and within Clarke County, Nevada to lands managed by the USDI—Bureau of Land Management, Fish and Wildlife Service, and National Park Service.

Estimated Annual Number of Respondents: 65,400.

Estimated Annual Number of Responses per Respondent: One.

Estimated Total Annual Burden on Respondents: 9,425.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: August 1, 2006.
Gloria Manning,
Associate Deputy Chief.

[FR Doc. E6-13192 Filed 8-10-06; 8:45 am]

BILLING CODE 3410-11-P